DEPARTMENT OF COMMERCE

International Trade Administration

Proposed Information Collection; Comment Request; Non-Tariff Barriers Survey

ACTION: Notice.

SUMMARY: The Department of Commerce, as part of its continuing effort to reduce paperwork and respondent burdens, invites the general public and other Federal agencies to take this opportunity to comment on the continuing information collections, as required by the Paperwork Reduction Act of 1995, Public Law 104-13 (44 U.S.C. 3506(c)(2)(A)).

DATES: Written comments must be submitted on or before October 22, 2007.

ADDRESSES: Direct all written comments to Diana Hynek, Departmental Paperwork Clearance Officer, Department of Commerce, Room 6625, 14th & Constitution Avenue, NW., Washington, DC 20230 or via the Internet at DHynek@doc.gov

FOR FURTHER INFORMATION CONTACT: Request for additional information or copies of the information collection instrument and instructions should be directed to: Marc Lemmond, Manufacturing and Services, Division of Manufacturing, Office of Energy and Environmental Industries, Room 4053; U.S. Department of Commerce, 14th & Constitution Avenue, NW., Washington, DC 20230; Phone number: (202) 482-5225.

SUPPLEMENTARY INFORMATION:

I. Abstract

The International Trade Administration's Office of Energy and Environmental Industries (OEEI) is the principal resource and key contact point within the U.S. Department of Commerce for American energy and environmental technology companies. It's goal is to facilitate and increase exports of energy and environmental technologies, goods and services by providing support and guidance to U.S. exporters. One aspect of increasing exports is to reduce trade barriers and non-tariff measures. OEEI works closely with the Office of the U.S. Trade Representative on trade negotiations and trade liberalization initiatives. The information collected by this survey will be used to support these projects and enable OEEI to maintain a current, up-to-date list of non-tariff measures that create trade barriers for U.S. exports of environmental goods and services.

II. Method of Collection

Electronic submission.

III. Data

OMB Number: 0625-0241.

Form Number: ITA-4150P.

Type of Review: Regular Submission.

Affected Public: Business or other for profit organizations.

Estimated Number of Respondents: 200.

Estimated Time Per Response: 10 minutes.

Estimated Total Annual Burden Hours: 33.

Estimated Total Annual Costs: $7,000.

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: August 16, 2007.
Gwellnar Banks,
Management Analyst, Office of the Chief Information Officer.

[FR Doc. E7-16572 Filed 8-21-07; 8:45 am]

BILLING CODE 3510-DR-P